DEPARTMENT OF JUSTICE

Drug Enforcement Administration

[OMB Number 1117-0023]

Agency Information Collection Activities; Proposed Collection; Comments Requested: Import/Export Declaration for List I and List II Chemicals; DEA Forms 486 and 486A

ACTION: 30-Day Notice.

The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register at Volume 77, Number 154, page 47666, August 9, 2012, allowing for a 60 day comment period.

The purpose of this notice is to allow for an additional 30 days for public comment until November 14, 2012. This process is conducted in accordance with 5 CFR 1320.10.

If you have comments, especially on the estimated public burden or associated response time, suggestions, or need a copy of the proposed information collection instrument with instructions or additional information, please contact John W. Partridge, Chief, Liaison and Policy Section, Office of Diversion Control, Drug Enforcement Administration, 8701 Morrissette Drive, Springfield, VA 22152; (202) 307-7297.

Written comments concerning this information collection should be sent to the Office of Information and Regulatory Affairs, Office of Management and Budget, Attn: DOJ Desk Officer. The best way to ensure your comments are received is to email them to oira_submission@omb.eop.gov or fax them to (202) 395-7285. All comments should reference the eight-digit OMB number for the collection or the title of the collection. If you have questions concerning the collection, please contact John W. Partridge, Chief, Liaison and Policy Section, Office of Diversion Control, Drug Enforcement Administration, 8701 Morrissette Drive, Springfield, VA 22152, (202) 307-7297, or the DOJ Desk Officer at (202) 395-3897 or the DOJ desk officer at (202) 395-3897.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-0023

(1) Type of Information Collection: Extension of a currently approved collection.

(2) Title of the Form/Collection: Import/Export Declaration for List I and List II Chemicals.

(3) Agency form number, if any, and the applicable component of the Department sponsoring the collection:

Form number: DEA Forms 486 and 486A.

Component: Office of Diversion Control, Drug Enforcement Administration, Department of Justice.

(4) Affected public who will be asked or required to respond, as well as a brief abstract:

Primary: Business or other for-profit.

Other: Not-for-profit; State, local, and tribal government.

Abstract: Persons importing, exporting, and conducting international transactions with List I and List II chemicals must notify DEA of those transactions in advance of their occurrence, including information regarding the person(s) to whom the chemical will be transferred and the quantity to be transferred. Persons must also provide return declarations, confirming the date of the importation and transfer, and the amounts of the chemical transferred. For the List I chemicals ephedrine, pseudoephedrine, and phenylpropanolamine, importers must report all information known to them on the chain of distribution of the chemical from the manufacturer to the importer. This information is used to prevent shipments not intended for legitimate purposes.

(5) An estimate of the total number of respondents and the amount of time estimated for an average respondent to respond: The below table presents information regarding the number of respondents, responses, and associated burden hours. Note that all hour calculations have been rounded up to the nearest hour.

| Number of respondents | Number of responses | Average time per response | Total in (hours)
Form 486 (export) | 273 | 9,155 | 0.283 hour (17 minutes) | 2,594 hours
Form 486 (Export Return Declaration) | 273 | 9,155 | 0.166 hour (10 minutes) | 1,526 hours
Form 486 (import) | 127 | 1,899 | 0.333 hour (20 minutes) | 633 hours
Form 486 (import return declaration)* | 127 | 2,089 | 0.2 hour (12 minutes) | 418 hours
Form 486A (import) | 29 | 412 | 0.4 hour (24 minutes) | 165 hours
Form 486A (import return declaration)* | 29 | 453 | 0.2 hour (12 minutes) | 91 hours
Form 486 (international transaction) | 15 | 169 | 0.2 hour (12 minutes) | 34 hours
Form 486 (international transaction return declaration) | 15 | 169 | 0.08 hour (5 minutes) | 14 hours
Quarterly reports for imports of acetone, 2-butanone, and toluene | 110 | 440 | 0.5 hour (30 minutes) | 220 hours
Total | 273 |  |  | 5,695 hours
* DEA assumes 10% of all imports will not be transferred in the first thirty days and will necessitate submission of a subsequent return declaration.

(6) An estimate of the total public burden (in hours) associated with the collection: DEA estimates that this collection takes 5,695 annual burden hours.

If additional information is required contact: Jerri Murray, Department Clearance Officer, Policy and Planning Staff, Justice Management Division, Department of Justice, Two Constitution Square, 145 N Street NE., Suite 2E-508, Washington, DC 20530.

Dated: October 9, 2012.
Jerri Murray,
Department Clearance Officer, PRA, U.S. Department of Justice.

[FR Doc. 2012-25161 Filed 10-12-12; 8:45 am]

BILLING CODE 4410-09-P